DEPARTMENT OF ENERGY

Federal Energy Regulatory Commission

[Docket No. RP08-218-000]

Gulfstream Natural Gas System, L.L.C.; Notice of Amendment To Petition for Temporary Waiver of Tariff Provisions and Request for Expedited Action

March 14, 2008.

Take notice that on March 13, 2008, Gulfstream Natural Gas System, L.L.C. (Gulfstream) tendered for filing an amendment in the referenced docket to its February 28, 2008 Petition for Temporary Waiver of Tariff Provisions.

Gulfstream states that the purpose of the amendment is to change the period over which its temporary waiver with respect to loan service will be applicable during the April 2008 outages to the period commencing on the first gas day of the first outage through and including the 30th gas day following the second outage. This amendment will allow Gulfstream's firm customers who take loans of line pack during the April 2008 outages up to 30 days following the end of the second outage to return all line pack taken during both outages. In addition, in order to ensure that the firm shippers have a timely understanding of the availability of, and cost associated with, the parking and lending services described in the Petition, as amended, Gulfstream requests that the Commission expedite action on the amended Petition, shorten the notice period to five days from the date of this filing, and grant the Petition by March 21, 2008.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time Tuesday, March 18, 2008.

Kimberly D. Bose,
Secretary.

[FR Doc. E8-5827 Filed 3-21-08; 8:45 am]

BILLING CODE 6717-01-P